DEPARTMENT OF COMMERCE

National Oceanic and Atmospheric Administration

RIN 0648-XC383

Pacific Fishery Management Council; Public Meeting/Online Webinar

AGENCY: National Marine Fisheries Service (NMFS), National Oceanic and Atmospheric Administration (NOAA), Commerce.

ACTION: Notice of online webinar.

SUMMARY: The Pacific Fishery Management Council (Pacific Council) will hold an online webinar to develop alternatives for determining the status of groundfish stocks based on results of data-moderate assessments. The online Groundfish Status Determination Criteria for Data-Moderate Stocks webinar is open to the public, although space for online access is limited to the first 100 participants.

DATES: The Groundfish Status Determination Criteria for Data-Moderate Stocks webinar will commence at 9 a.m. PST, Friday, December 21, 2012 and continue until noon or as necessary to complete business for the day.

ADDRESSES: To attend the Groundfish Status Determination Criteria for Data-Moderate Stocks webinar, please reserve your seat by visiting https://www2.gotomeeting.com/register/260816698. If requested, enter your name, email address, and the webinar id, which is 260-816-698. Once registered, participants will receive a confirmation email message that contains detailed information about viewing the event. To only join the audio teleconference of the Groundfish Status Determination Criteria for Data-Moderate Stocks webinar from the U.S. or Canada, call the toll number 1-415-655-0051 (note: this is not a toll-free number) and use the access code 260-374-057 when prompted.

System requirements for attending the online webinar are as follows:

PC-based attendees: Windows® 7, Vista, XP or 2003 Server;

Mac®-based attendees: Mac OS® X 10.5 or newer; and

Mobile attendees: iPhone®, iPad®, Android ™ phone or Android tablet.

Public listening stations for the Groundfish Status Determination Criteria for Data-Moderate Stocks webinar will also be available at the following locations:

1. Large conference room (room 188), NMFS Southwest Fisheries Science Center, 110 Shaffer Rd., Santa Cruz, CA 95060;

2. Large conference room, Pacific Council office, 7700 NE. Ambassador Place, Suite 101, Portland, OR 97220-1384; and

3. Auditorium, NMFS Northwest Fisheries Science Center, 2725 Montlake Blvd. E., Seattle, WA 98112.

Council address: 7700 NE. Ambassador Place, Suite 101, Portland, OR 97220-1384; telephone: (503) 820-2280.

FOR FURTHER INFORMATION CONTACT: Mr. John DeVore, Pacific Council; telephone: (503) 820-2280.

SUPPLEMENTARY INFORMATION: The purpose of the Groundfish Status Determination Criteria for Data-Moderate Stocks webinar is to develop alternative status determination criteria for stocks that are assessed using new data-moderate methods adopted last year for use in the 2013 assessment cycle. No management actions will be decided in this workshop. Any recommendations developed at the workshop will be submitted for consideration by the Pacific Council at its March 2013 meeting in Tacoma, WA.

Members of the general public who are not NMFS employees need to provide photo identification to attend the webinar at the Northwest Fisheries Science Center. Foreign nationals without green cards intending to attend the webinar at the Northwest Fisheries Science Center must notify Dr. Jim Hastie, (206) 860-3412, at the Northwest Fisheries Science Center at least one week prior to the webinar.

Public comments during the webinar will only be received from attendees at one of the three public listening stations, although participants who have pre-registered can listen in on the proceedings online from remote locations.

Although non-emergency issues not identified in the webinar agenda may come before the webinar participants for discussion, those issues may not be the subject of formal action during this webinar. Formal action at the workshop will be restricted to those issues specifically listed in this notice and any issues arising after publication of this notice that require emergency action under Section 305(c) of the Magnuson-Stevens Fishery Conservation and Management Act, provided the public has been notified of the webinar participants' intent to take final action to address the emergency.

Special Accommodations

This meeting is accessible to people with disabilities. Requests for sign language interpretation or other auxiliary aids should be directed to Mr. Kris Kleinschmidt at (503) 820-2280 at least 5 days prior to the webinar date.

Dated: December 3, 2012.
Tracey L. Thompson,
Acting Director, Office of Sustainable Fisheries, National Marine Fisheries Service.

[FR Doc. 2012-29495 Filed 12-5-12; 8:45 am]

BILLING CODE 3510-22-P